OFFICE OF PERSONNEL MANAGEMENT

5 CFR PART 213

RIN 3206-AJ53

Excepted Service—Schedule A Authority for Chinese, Japanese, and Hindu Interpreters

AGENCY: Office of Personnel Management.

ACTION: Proposed regulations.

SUMMARY: The Office of Personnel Management (OPM) proposes to revoke the Schedule A excepted service appointing authority for Chinese, Japanese and Hindu interpreters because the conditions justifying the original exception no longer exist. Revocation would bring the positions filled under this Schedule A authority into the competitive service and permit noncompetitive conversion of persons serving under the authority to either competitive or excepted service appointments.

DATES: Comments must be received on or before March 25, 2002.

ADDRESSES: Send or deliver written comments to Ellen E. Tunstall, Assistant Director for Employment Policy, Office of Personnel Management, 1900 E Street, NW., Room 6551, Washington, DC 20415.

FOR FURTHER INFORMATION CONTACT: Christina Vay on 202-606-0960 or FAX 202-606-0390.

SUPPLEMENTARY INFORMATION: The Schedule A authority, 5 CFR 213.3102(f), was established in 1903 for use by all agencies. In the past, complexities in the examining system necessitated excepted service authorities on the basis that examining was impracticable. In 1903, this was true for Chinese, Japanese, and Hindu languages.

Competitive examining has changed drastically in the almost 100 years since this authority's creation. Today, agencies successfully examine for positions with specific language requirements. Because agencies can examine for all other languages, we see no reason to continue this authority.

Conversion of Employees

The revocation of this authority would bring the positions into the competitive service as provided in 5 CFR 316.701 and 316.702. If this regulation becomes final, persons serving under 5 CFR 213.3102(f) and who are citizens would be noncompetitively converted to the competitive service. If there are positions for which examining is still impracticable, or there are noncitizens serving under the authority, they will be placed under other appropriate excepted appointing authorities.

Regulatory Flexibility Act

I certify that these regulations will not have a significant economic impact on a substantial number of small entities because the regulations pertain only to Federal employees and agencies.

Executive Order 12866, Regulatory Review

This rule has been reviewed by the Office of Management and Budget in accordance with Executive Order 12866.

List of Subjects in 5 CFR Part 213

Government employees. Reporting and recordkeeping requirements.

Kay Coles James,
Director.

Accordingly, OPM proposes to amend 5 CFR part 213 as follows:

PART 213 —EXCEPTED SERVICE

1. The authority citation for part 213 is revised to read as follows:

Authority: 5 U.S.C. 3301 and 3302, E.O. 10577, 3 CFR 1954-1958 Comp., p. 218; § 213.101 also issued under 5 U.S.C. 2103; § 213.3102 also issued under 5 U.S.C. 3301, 3302, 3307, 8337(h) and 8456; E.O. 12364, 47 FR 22931, 3 CFR 1982 Comp., p. 185; 38 U.S.C. 4301 et. seq.; and Pub. L. 106-117 (113 Stat. 1545).

§ 213.3102 [Amended]

2. Paragraph (f) of § 213.3102 is removed and reserved.

[FR Doc. 02-1603 Filed 1-22-02; 8:45 am]

BILLING CODE 6325-38-U